FEDERAL COMMUNICATIONS COMMISSION

[DA 04-2333]

Telecommunications Relay Services and the Americans With Disabilities Act of 1990; Coin Sent-Paid TRS Call From Payphones

AGENCY: Federal Communications Commission.

ACTION: Notice.

SUMMARY: In this document, the Commission responds to an annual report required by the October 25, 2002 Fifth Coin Sent-Paid Report & Order, which adopted measures to ensure the availability of payphone services for telecommunication relay service (TRS) users that are functionally equivalent to traditional payphone services available for non-TRS users.

DATES: Effective July 28, 2004.

ADDRESSES: Federal Communications Commission, 445 12th Street, SW., Washington, DC 20554.

FOR FURTHER INFORMATION CONTACT: Cheryl King, (202) 418-2284 (voice), (202) 418-0416 (TTY), or e-mail Cheryl.King@fcc.gov.

SUPPLEMENTARY INFORMATION: On October 25, 2002, the Commission released a Fifth Coin Sent-Paid Report & Order published at 68 FR 6352, March 10, 2003, in CC Docket 90-571; FCC 02-269. In the Fifth Coin Sent-Paid Report & Order, the Commission required that the Coin Sent-Paid (CSP) Industry Team submit a report to the Commission twelve months after publication of the Fifth Coin Sent-Paid Report & Order in the Federal Register. The report was to address the implementation and effectiveness of the consumer education program, coordination with TRS user community, and the identification of any problem areas and corrective action taken. This is a summary of the Commission's Public Notice, DA 04-2333 released July 28, 2004.

The full text of this document is available for public inspection and copying during regular business hours at the FCC Reference Information Center, Portals II, 445 12th Street, SW., Room CY-A257, Washington, DC 20554. This document may be purchased from the Commission's duplicating contractor, Best Copy and Printing, Inc. (BCPI), Portals II, 445 12th Street, SW., Room CY-B402, Washington, DC 20554. Customers may contact BCPI, Inc. at their Web site: http://www.bcpiweb.com or call 1-800-378-3160.

To request this document in accessible formats for people with disabilities (Braille, large print, electronic files, audio format), send an e-mail to fcc504@fcc.gov or call the Consumer & Governmental Affairs Bureau at (202) 418-0530 (voice), (202) 418-0432 (TTY). This Public Notice can also be downloaded in Word and Portable Document Format (PDF) at http://www.fcc.gov/cgb/dro.

Synopsis

Title IV of the Americans with Disabilities Act, which is codified at section 225 of the Communications Act of 1934, as amended (the Act), mandates that the Federal Communications Commission (Commission) ensure that interstate and intrastate telecommunications relay services (TRS) are available, to the extent possible and in the most efficient manner, to individuals in the United States with hearing and speech disabilities. Title IV aims to further the Act's goal of universal service by providing to individuals with hearing or speech disabilities telephone services that are functionally equivalent to those available to individuals without such disabilities. Since TRS became available on a nationwide basis in 1993, the Commission has taken numerous steps to increase the availability of TRS, and to ensure that TRS users have access to the same services available to all telephone service users. One of these services is access to public payphones.

In the Fifth Coin Sent-Paid Report & Order the Commission noted that it had construed our requirement that TRS providers offer “any type of call” to include coin sent-paid calls, which are calls made by depositing coins in a coin-operated public payphone. At the same time, we noted long-standing concerns about the technical difficulties associated with providing long distance toll coin sent-paid calls through TRS facilities. We therefore addressed whether a solution had been developed for processing long distance toll coin sent-paid TRS calls, as well as whether other means had been developed by which individuals with hearing and speech disabilities could make TRS calls from payphones without using coins but instead using calling cards, prepaid cards, or collect or third-party billing.

In the October 2002 Fifth Coin Sent-Paid Report & Order, the Commission acknowledged that no current technological solution exists to allow TTY users to use public telephones and make long distance toll calls through TRS facilities in the same manner as voice users using public telephones, i.e., by inserting coins to pay for the call. Instead, the Commission largely adopted the pay telephone industry's Alternative Plan. Under the Alternative Plan, TRS users could make local 711 TRS calls from pay telephones free of charge, and may make long distance toll calls by using calling cards or prepaid telephone debit cards. The Alternative Plan also called for the pay telephone industry to develop programs to educate TRS users about alternate payment methods for making TRS long distance toll calls.

The Commission identified six specific outreach and educational steps that it encouraged the pay telephone industry to take:

(a) Draft a consumer education letter, in consultation with deaf and hard-of-hearing advocacy groups, for dissemination to TRS users.

(b) Attend local, regional, and national consumer conferences of organizations that represent people who are deaf and hard-of-hearing, and distribute information.

(c) Post TRS instructions on or near pay telephones, to the extent possible.

(d) Make information available for TRS websites.

(e) Provide coin sent-paid TRS information in telephone directories.

(f) Consult with representatives of the deaf and hard-of-hearing communities to improve outreach and education methods for use of payphones for TRS calls.

On March 9, 2004, the CSP Industry Team filed its required report on outreach activities, detailing its response to each of the Commission's recommendations. The CSP Industry Team reports that:

(a) Consumer Information Letter. The CSP Industry Team drafted an informational letter explaining the FCC's decision in the Fifth Coin Sent-Paid Report & Order. The CSP Industry Team received input on this letter from Telecommunications for the Deaf, Inc. (TDI) and Self Help for Hard of Hearing People (SHHH), and gave the informational letter to TDI and SHHH for circulation to their members. TDI and SHHH requested that the CSP Industry Team write an article on the same subject for a user group newsletter, with which request the CSP Industry Team complied. The CSP Industry Team also prepared a wallet-sized card containing information and instructions for users for distribution to the deaf and hard-of-hearing communities.

(b) Information Booths at Conferences. The CSP Industry Team, carriers, and TRS providers provided educational activities in various fora, including deaf/hard-of-hearing organizations, businesses, colleges/universities/schools, city and state governments, hospitals, independent living/senior facilities, health care facilities, and retirement groups, and at local, regional, and national conferences widely attended by the TRS community. The total number of such events in 2003 was nearly 750, and the CSP Industry Team estimates that it directly reached approximately 440,000 people.

(c) TRS Instructions On or Near TTY Payphones. The CSP Industry Team found that, in many instances, it was possible to have TRS instructions cards laminated and placed at the sites of TTY payphones.

(d) TRS Web Site. The CSP Industry Team developed website updates for its members' websites, explaining the CSP rules and procedures for accessing TRS through pay telephones.

(e) TRS Information in Telephone Directories. The CSP Industry Team coordinated with carriers to put TRS information, including CSP information, in telephone directories and telephone bill messages/inserts.

(f) Consultation with the Disability Community. In addition to meeting with national TRS users groups after the adoption of the Fifth Coin Sent-Paid Report & Order, identification of action items, and the provision of deliverables, the CSP Industry Team and TRS users groups agreed to reconvene to discuss any problems or developments in CSP. The Consumer Advisory Committee of the FCC, a Federal Advisory Committee, which includes members from the CSP Industry Team and members from TRS users groups, meets three times a year to discuss, inter alia, TRS issues. Any problems or developments which arise can be dealt with in this framework, or by reconvening the CSP Industry Team/TRS user group consultation process. The CSP Industry Team reported only one problem in its education and outreach program. TRS user groups were unhappy that the Commission had decided to let prepaid phone card rates be set by the market, without oversight by the Commission.

On November 25, 2002—before the CSP Industry Team filed its required outreach report—Telecommunications for the Deaf, Inc. (TDI), The Consumer Action Network, The National Association of the Deaf, and Self-Help for Hard of Hearing People (Joint CSP Petitioners) filed a joint petition for reconsideration of the Fifth Coin Sent-Paid Report & Order, raising two central issues. First, they requested that the Commission restore the interim requirement for TRS payphone calls that carriers charge the lower of the coin sent-paid rate, or the rate for calling cards and/or prepaid calling cards. Joint CSP Petitioners asserted that implementation issues should not preclude the requirement of cost parity. Second, the Joint CSP Petitioners asserted that the Commission should have implemented a national outreach program under the purview of an entity such as the TRS Fund Administrator, rather than leave outreach to the voluntary efforts of the carriers.

In an Order released on June 30, 2004, FCC 04-137, the Commission denied the Joint CSP Petitioners' Petition for Reconsideration of the Fifth Coin Sent-Paid Report & Order. First, the Commission declined to impose additional regulation on TRS calls made from payphones, including the notion of “cost parity.” Second, the Commission declined to mandate a nationwide uniform outreach campaign. With respect to outreach, the Order addressed more broadly TRS outreach and suggested that the Consumer Advisory Committee (CAC) develop voluntary Best Practice Guidelines for state TRS programs, TRS providers, and common carriers. The Commission committed that it would work with the CAC to ensure that the results of that effort, and other relevant materials, are available on the FCC website (http://www.fcc.gov) so that common carriers, TRS providers, state programs, and advocates will have the opportunity to share their outreach ideas and approaches. The Commission also directed the Consumer & Governmental Affairs Bureau to take concrete steps through educational and outreach efforts to further enhance public awareness of TRS. In addition to making factsheets and other informational materials available for dissemination through the Commission's website and national consumer call centers, the Commission committed to launch a comprehensive outreach campaign that will include participating in conferences and other events that provide opportunities for Commission staff to further educate not only users of TRS, but also the general public, about TRS. Finally, the Commission committed to provide media outlets likely to reach individuals who use TRS, as well as those of general distribution, with information about the availability of, and further developments in, the provision of TRS.

Because all outstanding coin sent-paid issues have now been resolved, the Commission will not request public comment on the CSP Industry Team's report. The Commission notes, however, that persons having concerns about coin sent-paid or other TRS issues may file informal complaints with the Commission, send letters to the Commission's Disability Rights Office, or file petitions for clarification or for the promulgation of new rules. The CSP Industry Team's report is available through the Electronic Comment Filing System on the Commission's Web site, http://gullfoss2.fcc.gov/prod/ecfs/comsrch_v2.cgi.

Federal Communications Commission.
Jay Keithley,
Deputy Chief, Consumer & Governmental Affairs Bureau.

[FR Doc. 04-19626 Filed 8-26-04; 8:45 am]

BILLING CODE 6712-01-P